DEPARTMENT OF HOMELAND SECURITY

Coast Guard

33 CFR Part 100

[CGD05-04-214]

RIN 1625-AA08

Special Local Regulations for Marine Events; Patapsco River, Baltimore, MD

AGENCY: Coast Guard, DHS.

ACTION: Notice of implementation of regulation.

SUMMARY: The Coast Guard is implementing the special local regulations at 33 CFR 100.526 during the New Year's Eve Celebration to be held December 31, 2004 through January 1, 2005 on the Patapsco River at Baltimore, Maryland. These special local regulations are necessary to provide for the safety of life on navigable waters before, during and after the event. The effect will be to restrict general navigation in the regulated area for the safety of spectators and support vessels in the event area.

DATES: 33 CFR 100.526 will be enforced from 11:45 p.m., December 31, 2004 to 12:45 a.m. e.d.t. on January 1, 2005.

FOR FURTHER INFORMATION CONTACT: Ronald Houck, Marine Events Coordinator, Commander, Coast Guard Activities Baltimore, 2401 Hawkins Point Road, Baltimore, Maryland, 21226, (410) 576-2674.

SUPPLEMENTARY INFORMATION: The Baltimore Office of Promotion and the Arts will sponsor the “New Year's Eve Celebration” on December 31, 2004 to January 1, 2005 on the waters of the Inner Harbor, Patapsco River, Baltimore, Maryland. In order to ensure the safety of participants, spectators and transiting vessels, 33 CFR 100.526 will be enforced for the duration of the event. The special local regulations will be enforced from 11:45 p.m. December 31, 2004 to 12:45 a.m. e.d.t. on January 1, 2005. The pyrotechnic display will be launched from 3 barges located adjacent to the Inner Harbor within the regulated area. Under the provisions of 33 CFR 100.526, a vessel may not enter the regulated area unless it receives permission from the Coast Guard Patrol Commander. Spectator vessels may anchor outside the regulated area but may not block a navigable channel.

In addition to this notice, the maritime community will be provided extensive advance notification via the Local Notice to Mariners, marine information broadcasts, and area newspapers, so mariners can adjust their plans accordingly.

Dated: November 24, 2004.
Ben R. Thomason, III,
Captain, U.S. Coast Guard, Commander, Fifth Coast Guard District, Acting.

[FR Doc. 04-26844 Filed 12-6-04; 8:45 am]

BILLING CODE 4910-15-P